COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 3/4/2013.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or email CMTEFedReg@AbilityOne.gov.

SUPPLEMENTARY INFORMATION:

Additions

On 11/20/2012 (77 FR 69598) and 12/7/2012 (77 FR 73025-73026), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN: 7510-00-NIB-0889—Protector, Document, 7-hole, Medium Weight, Clear, 8-1/2″×11″.

NSN: 7510-00-NIB-1882—Folders, Project, 8-1/2″×11″, Clear.

NPA: L.C. Industries or the Blind, Inc., Durham, NC.

Contracting Activity: General Services Administration, New York, NY

COVERAGE: A-List for the Total Government Requirement as aggregated by the General Services Administration.

NSN: 7220-00-NIB-0440—Floor Mat, Anti-Fatigue, Ribbed Vinyl, 2′ × 3′, Black.

NSN: 7220-00-NIB-0441—Floor Mat, Anti-Fatigue, Ribbed Vinyl, 3′ × 5′, Black.

NPA: Wiscraft, Inc., Milwaukee, WI.

Contracting Activity: General Services Administration, Fort Worth, TX.

COVERAGE: A-List for the Total Government Requirement as aggregated by the General Services Administration.

Group 1 and 2 Spices

NSN: 8950-01-E60-8236—Black cracked pepper in a 16 ounce metal can.

NSN: 8950-01-E60-8237—Black cracked pepper in a 16 ounce plastic container.

NSN: 8950-01-E60-8234—Black cracked pepper in a 18 ounce metal can.

NSN: 8950-01-E60-8235—Black cracked pepper in a 18 ounce plastic container.

NSN: 8950-01-E60-7765—Black ground pepper in a 1.5 ounce plastic container.

NSN: 8950-01-E60-7766—Gourmet black ground pepper in a 16 ounce metal container.

NSN: 8950-01-E60-7767—Gourmet black ground pepper in a 16 ounce plastic container.

NSN: 8950-01-E60-7769—Gourmet black ground pepper in a 18 ounce metal container.

NSN: 8950-01-E60-7768—Gourmet black ground pepper in a 18 ounce plastic container.

NSN: 8950-01-E60-7770—Black ground pepper in a 5 pound plastic container.

NSN: 8950-01-E60-8238—Black whole pepper in a 16 ounce metal can.

NSN: 8950-01-E60-8239—Black whole pepper in a 16 ounce plastic container.

NSN: 8950-01-E60-8241—Black whole pepper in a 18 ounce metal can.

NSN: 8950-01-E60-5749—Paprika seasoning in a 16 ounce container.

NSN: 8950-01-E60-5754—Garlic, granulated in a 12 ounce plastic container.

NSN: 8950-01-E60-5753—Garlic, granulated in a 25 ounce plastic container.

NSN: 8950-01-E60-5751—Garlic powder in a 16 ounce plastic container.

NSN: 8950-01-E60-5752—Garlic, powder in a 6 pound plastic container.

NSN: 8950-01-E61-0103—Canadian style steak seasoning, 29 ounce plastic container.

NSN: 8950-01-E61-0104—Ginger ground in a 14 ounce plastic container.

NSN: 8950-01-E61-0105—Ginger ground in a 15 ounce plastic container.

NSN: 8950-01-E60-9152—Ground ginger in a 16 ounce plastic container.

NSN: 8950-01-E60-9155—Cayenne pepper in a 14 ounce plastic container.

NSN: 8950-01-E61-0106—Cayenne pepper in a 1.5 ounce plastic container.

NSN: 8950-01-E61-0107—Cayenne pepper in a 16 ounce plastic container.

NSN: 8950-01-E61-0108—Ground red pepper in a 16 ounce plastic container.

NSN: 8950-01-E61-0099—Taco seasoning in a 9 ounce plastic container.

NSN: 8950-01-E61-0100—Taco seasoning in a 11 ounce plastic container.

NSN: 8950-01-E61-0101—Taco seasoning in a 23 ounce plastic container.

NSN: 8950-01-E61-0102—Taco seasoning in a 24 ounce plastic container.

NSN: 8950-01-E60-9456—All purpose seasoning without salt in a 2.5 ounce plastic container.

NSN: 8950-01-E60-9457—All purpose seasoning without salt in a 6.75 ounce plastic container.

NSN: 8950-01-E60-9458—All purpose seasoning without salt in a 10 ounce plastic container.

NSN: 8950-01-E60-9459—All purpose seasoning without salt in a 20 ounce plastic container.

NSN: 8950-01-E60-9460—All purpose seasoning without salt in a 28 ounce plastic container.

NSN: 8950-01-E60-9461—Dark chili powder in a 16 ounce plastic container.

NSN: 8950-01-E60-9464—Dark chili powder in a 20 ounce plastic container.

NSN: 8950-01-E60-9465—Light chili powder in a 5 pound plastic container.

NSN: 8950-01-E60-9462—Light chili powder in a 17 ounce plastic container.

NSN: 8950-01-E60-9463—Light chili powder in a 18 ounce plastic container.

NSN: 8950-01-E60-9468—Cinnamon maple seasoning in a 30 ounce plastic container.

NSN: 8950-01-E60-9472—Cinnamon Sticks 2¾″ in length in a 8 ounce plastic container.

NSN: 8950-01-E60-9469—Ground Cinnamon in a 15 ounce plastic container.

NSN: 8950-01-E60-9150—Ground Cinnamon in a 16 ounce plastic container.

NSN: 8950-01-E60-9470—Ground Cinnamon in a 18 ounce plastic container.

NSN: 8950-01-E60-9471—Ground Cinnamon in a 5 pound plastic container.

NSN: 8950-01-E60-9466—Lemon pepper seasoning in a 26 ounce plastic container.

NSN: 8950-01-E60-9467—Lemon pepper seasoning in a 27 ounce plastic container.

NSN: 8950-01-E60-9147—Lemon pepper seasoning in a 28 ounce plastic container.

NPA: CDS Monarch, Webster, NY.

Contracting Activity: Department of Veterans Affairs National Acquisition Center, Hines, IL.

Coverage: C-List for 100% of the requirement of the Department of Veteran's Affairs as aggregated by the Department of Veterans Affairs National Acquisition Center, Hines, IL.

Services

Service Type/Location: Grounds Maintenance, National Plant Germplasm Quarantine Center, Building 580, Powder Mill Road, Beltsville, MD.

NPA: NW Works, Inc., Winchester, VA.

Contracting Activity: Dept of Agriculture, Animal and Plant Hlth Insp SVC, Minneapolis, MN.

Service Type/Locations: Secure Document Destruction, Internal Revenue Service, IRS Office: 5000 Corporate Drive, Holtsville, NY, IRS Office: 1 Corporate Drive, Holtsville, NY.

NPA: NISH, Vienna, VA (Prime Contractor).

NPA: NYSARC, Inc., NYC Chapter, New York, NY (Subcontractor).

Contracting Activity: Dept of Treasury, Internal Revenue Service, Washington, DC.

Service Type/Location: Custodial Service, Social Security Administration (SSA), West High Rise and West Low Rise Buildings, 6401 Security Blvd., Baltimore, MD.

NPA: Goodwill Industries of the Chesapeake, Inc., Baltimore, MD.

Contracting Activity: Social Security Administration, Hdqtrs—Office of Acquisition & Grants, Baltimore, MD.

Service Type/Location: Base Operations Support Service, Directorate of Public Works, 1830 Quartermaster Road, Fort Lee, VA.

NPA: Skookum Educational Programs, Bremerton, WA.

Contracting Activity: Dept of the Army, W6QM MICC Ft Lee, Fort Lee, VA.

Patricia Briscoe,
Deputy Director, Business Operations, (Pricing and Information Management).

[FR Doc. 2013-02179 Filed 1-31-13; 8:45 am]

BILLING CODE 6353-01-P